DEPARTMENT OF LABOR

Occupational Safety and Health Administration

29 CFR Parts 1910, 1915, and 1926

[Docket No. OSHA-H005C-2006-0870-0353]

RIN 1218-AB76

Occupational Exposure to Beryllium

AGENCY: Occupational Safety and Health Administration (OSHA), Labor

ACTION: Proposed rule; notice of informal public hearing; Date change.

SUMMARY: OSHA is rescheduling the informal public hearing on its proposed rule “Occupational Exposure to Beryllium and Beryllium Compounds.” The public hearing will now begin on Monday March 21, 2016 at 2 p.m., local time. The public hearing notice was published in the Federal Register on December 30, 2015. The proposed rule was published in the Federal Register on August 7, 2015 and the 90-day public comment period ended on November 5, 2015. The December 30, 2015 Federal Register notice of informal public hearing describes the procedures that will govern this hearing http://www.regulations.gov/#!documentDetail;D=OSHA-H005C-2006-0870-1706. All other information from this Federal Register notice remains the same.

DATES: Informal public hearing. The hearing will begin on March 21, 2016 at 2 p.m., local time. If necessary, the hearing will continue from 9:30 a.m. to 5 p.m., local time, on subsequent days, in Washington, DC. The original public hearing start date of February 29, 2016 is withdrawn.

ADDRESSES: Informal public hearing. The Washington, DC hearing will be held in the Cesar Chavez Auditorium at the Frances Perkins Building, U.S. Department of Labor, 200 Constitution Avenue NW, Washington, DC 20210.

FOR FURTHER INFORMATION CONTACT: Press inquiries: Kimberly Darby, Office of Communications, Room N-3647, U.S. Department of Labor, 200 Constitution Avenue NW., Washington, DC 20210; telephone 202-693-1892.

Technical information: Maureen Ruskin, OSHA, Office of Chemical Hazards-Metals, Room N-3718, U.S. Department of Labor, 200 Constitution Avenue NW., Washington DC 20210; telephone (202) 693-1955.

Hearing inquiries: Gretta Jameson, OSHA, Office of Communications, Room N-3647; 200 Constitution Avenue NW., Washington, DC 20210; telephone 202-693-2176, email Jameson.Gretta@dol.gov.

SUPPLEMENTARY INFORMATION: On August 7, 2015, OSHA published a proposed rule to amend its existing exposure limits for occupational exposure in general industry to beryllium and beryllium compounds (80 FR 47565). The proposed rule would promulgate a substance-specific standard for general industry, regulating occupational exposure to beryllium and beryllium compounds. OSHA accepted comments concerning the proposed rule during the comment period, which ended on November 5, 2015. Commenters shared information and suggestions on a variety of topics, and the Non-Ferrous Founders' Society also requested that OSHA schedule an informal public hearing on the proposed rule.

On December 30, 2015, OSHA published a notice of informal hearing and invited interested persons in the rulemaking to participate by providing oral testimony and documentary evidence at the informal hearing. The Agency requested those interested persons submit a notice of intent to appear and all documentary evidence by January, 29, 2016.

The original hearing date of February 29, 2016 has been rescheduled to March 21, 2016 at 2:00pm. If necessary, the hearing will continue from 9:30 a.m. to 5:00 p.m., local time, on subsequent days, in Washington, DC.

Authority and Signature

This document was prepared under the direction of David Michaels, Ph.D., MPH, Assistant Secretary of Labor for Occupational Safety and Health, U.S. Department of Labor, 200 Constitution Avenue NW, Washington, DC 20210, pursuant to section 6(b) of the Occupational Safety and Health Act of 1970 (29 U.S.C. 655(b)), Secretary of Labor's Order 1-2012 (77 FR 3912), and 29 CFR part 1911.

Signed at Washington, DC, on February 5, 2016.
David Michaels,
Assistant Secretary of Labor for Occupational Safety and Health.

[FR Doc. 2016-02782 Filed 2-12-16; 8:45 am]

BILLING CODE 4510-26-P